ENVIRONMENTAL PROTECTION AGENCY

40 CFR Part 52

[PA188-4205a; FRL-7482-7]

Approval and Promulgation of Air Quality Implementation Plans; Pennsylvania; VOC and NOX RACT Determinations for Two Individual Sources

AGENCY: Environmental Protection Agency (EPA).

ACTION: Direct final rule.

SUMMARY: EPA is taking direct final action to approve revisions to the Commonwealth of Pennsylvania's State Implementation Plan (SIP). The revisions were submitted by the Pennsylvania Department of Environmental Protection (PADEP) to establish and require reasonably available control technology (RACT) for two major sources of volatile organic compounds (VOC) and nitrogen oxides (NOX) located in Pennsylvania. The two major sources are Dominion Trans Inc. in Clinton County, and Textron Inc. in Lycoming County. EPA is approving these revisions to establish VOC and NOX RACT requirements in the SIP in accordance with the Clean Air Act (CAA).

DATES: This rule is effective on July 7, 2003 without further notice, unless EPA receives adverse written comment by June 6, 2003. If EPA receives such comments, it will publish a timely withdrawal of the direct final rule in the Federal Register and inform the public that the rule will not take effect.

ADDRESSES: Written comments should be mailed to Makeba Morris, Acting Branch Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 1301 Constitution Avenue, NW., Room B108, Washington, DC 20460; and Pennsylvania Department of Environmental Protection, Bureau of Air Quality, PO Box 8468, 400 Market Street, Harrisburg, Pennsylvania 17105.

FOR FURTHER INFORMATION CONTACT: Rose Quinto, (215) 814-2182, or by e-mail at quinto.rose@epa.gov.

SUPPLEMENTARY INFORMATION:

I. Background

Pursuant to sections 182(b)(2) and 182(f) of the CAA, the Commonwealth of Pennsylvania (the Commonwealth or Pennsylvania) is required to establish and implement RACT for all major VOC and NOX sources. The major source size is determined by its location, the classification of that area and whether it is located in the ozone transport region (OTR). Under section 184 of the CAA, RACT as specified in sections 182(b)(2) and 182(f) applies throughout the OTR. The entire Commonwealth is located within the OTR. Therefore, RACT is applicable statewide in Pennsylvania.

II. Summary of SIP Revision

On October 30, 2002, PADEP submitted formal revisions to its SIP to establish and impose case-by-case RACT for three major sources of VOC and NOX. This rulemaking pertains to two of those sources. The other source is subject to a separate rulemaking action. The RACT determinations and requirements are included in operating permits (OP) issued by PADEP.

The following identifies the individual operating permit that EPA is approving for each source.

A. Textron Lycoming

Textron Inc., owns and operates the Textron Lycoming Reciprocating Engine Division (TLRED) facility in Williamsport, Lycoming County, Pennsylvania. Aircraft engines and engine parts are manufactured at the facility, which is considered a major source of VOC. In this instance, RACT has been established and imposed by PADEP in an operating permit. On October 30, 2002, PADEP submitted operating permit No. OP 41-00005 to EPA as a SIP revision. The operating permit lists the following sources:

(1) The permit contains VOC emission limit of 3.040 tons per year (tpy) for the combustion source group. The combustion source group includes: 7 firetube boilers, 5 air make-up units, 140 Cercor heaters, 42 Dravos air heaters, 2 heat treat furnaces, and 4 aqueous washer burners (Source IDs: 032, 033, 034, 035, 036, 037, respectively). RACT for Source IDs 032, 033, 034, 035, 036, and 037 are the installation, maintenance and operation of the source in accordance to the manufacturers specifications. The operating permit contains the description of each source:

(a) Source ID 32 includes seven natural gas fired Firetube Boilers rated at 6.28 MMBTU/hr each;

(b) Source ID 033 includes five natural gas fired Air Make-Up Units with one rated at 3.89 MMBTU/hr, three rated at 5.20 MMBTU/hr each, and another one rated at 6.54 MMBTU/hr;

(c) Source ID034 includes 140 natural gas Cercor Heaters with 111 rated at 0.05 MMBTU/hr each, and 29 rated at 0.10 MMBTU/hr; (d) Source ID 035 includes 42 natural gas fired Dravos Air Heaters rated from 0.10 to 2.38 MMBTU/hr each. An air heater which has been taken out of service must comply with all applicable requirements of 25 Pa. Code section 127.11a in order to be reactivated; (e) Source ID 036 includes two natural gas fired heat treat furnaces using methanol for carburization, rated at 0.7 MMBTU/hr each; and (f) Source ID 037 includes four natural gas fired aqueous washer burners rated at 0.24 MMBTU/hr associated with a washer; 0.36 MMBTU/hr associated with a washer; 0.36 MMBTU/hr associated with a belt washer; and 0.36 MMBTU/hr associated with a spray washer.

(2) Source ID P202 includes 5 large Cooper Tanks with surface area of more than 10 square feet and Source ID P203 includes 6 Cooper Tanks with surface area less than 10 square feet. The permit contains a total combined VOC emission limits of 36.54 tpy from Source IDs P202 and P203 in any 12 consecutive month period. The tanks range in size from 85 to 470 gallons. Each tank contains solvent for the cold degreasing of metal parts. A Cooper Tank, which has been taken out of service, must comply with all applicable requirements of 25 Pa. Code section 127.11a in order to be reactivated.

(3) Source ID P204 includes 76 dip tanks. The permit contains a total combined VOC emission of 4.8 tpy from Source ID P204 in any 12 consecutive month period. The tanks range in size from 5 to 50 gallons. Each tank contains solvent for the cold degreasing of metal parts. A dip tank which has been taken out of service must comply with all applicable requirements of 25 Pa. Code section 127.11a in order to be reactivated.

(4) Source ID P205 includes 26 corrosion protection tanks. The permit contains a total combined VOC emission limit of 2.76 tpy from Source ID P205 in any 12 consecutive month period. The tanks range in size from 16 to 158 gallons. Each tank contains mineral spirits and ferrocote for preserving of metal parts between machining operations to prevent flash rusting. The facility shall maintain records of the total amount of mineral spirits (“Varsol”), or any other VOC used each month in Source ID P205. The facility shall keep records of the actual mineral spirits usage which occurred for each individual month in Source ID P205. The facility shall also keep records of the supporting calculations used to verify compliance with the annual VOC emission limits for Source ID P205. The facility shall retain records for at least 5 years and shall be made available to PADEP upon request. A corrosion protection tank which has been taken out of service, must comply with all applicable requirements of 25 Pa. Code section 127.11a in order to be reactivated.

(5) Source ID P206 includes 23 spray booth degreasers. The permit contains a total combined VOC emission limit of 24.69 tpy from Source ID P206 in any 12 consecutive month period. Cleaning of parts in the spray booths are done by using Varsol pumped through a handheld nozzle and directed at the part. A spray booth degreaser, which has been taken out of service, must comply with all applicable requirements of 25 Pa. Code section 127.11a in order to be reactivated.

(6) Source ID P210 includes 11 inspection stations containing a mixture of iron and iron oxide particles suspended in a low-volatility mineral spirit based solution. This solution is used to inspect equipment for cracks and inclusions. The permit contains total VOC emission limits of three pounds per hour, 15 pounds per day, or 2.7 tons per 12 consecutive month period for all 11 inspection stations combined. An inspection station, which has been taken out of service, must comply with all applicable requirements of 25 Pa. Code section 127.11a in order to be reactivated.

(7) Source ID P230 includes maintenance welding, general maintenance activities, truck maintenance activities (including spray booth SB27), floor and general cleaning activities, insect control activities, and health service activities. The permit contains total VOC emission limits of three pounds per hour, 15 pounds per day, or 2.7 tons per 12 consecutive month period for all the maintenance activities combined.

(8) Source ID P233 is a fluorescent dye penetrant booth. The permit contains a potential to emit VOC emission limit of three pounds per day, 15 pounds per day, or 2.7 tons in any 12 consecutive month period. A detailed RACT analysis that meets the criteria specified in 25 Pa. Code section 129.92 is required and must be submitted to PADEP if these limits are exceeded. The facility shall keep the following records for Source ID P233: (a) The amount of each VOC containing material used each month, and (b) supporting calculations used to verify compliance with the 12 consecutive month emission limitation for VOCs. All such records shall be retained for a minimum of five years and be provided to PADEP upon request.

(9) Source ID P250 includes three valve check stations that are used to check engine head assemblies for proper seating. These check stations do not use VOC-containing materials. The facility shall keep records, identifying liquid materials used in Source ID P250 and information that verifies that these materials does not contain any VOCs. All such records shall be retained for a minimum of five years and be provided to PADEP upon request.

B. Dominion Trans Inc.

Dominion Trans Inc., is a natural gas transmission facility located in Clinton County, Pennsylvania. The facility, which uses equipment to transport and store natural gas is located at the Finnefrock Station and is considered a major source of VOC and NOX. In this instance, RACT has been established and imposed by PADEP in an operating permit for Engine No. 4 identified as Source ID P104. Source IP P104 is a natural gas fired internal combustion engine rated at 4000 horsepower that is used to compress the natural gas in order to send it along the pipeline in its destination. On October 30, 2002, PADEP submitted operating permit No. OP 18-00005 to EPA as a SIP revision. The permit contains NOX emission limit of 44.1 pounds per hour and 193.16 tons in any 12 consecutive month period, and VOC emission limit of 2.43 pounds per hour and 10.64 tons in any 12 consecutive month period. The facility shall only use quality natural gas as fuel for Source ID P104. The facility shall perform semi-annual NOX testing using a portable exhaust gas analyzer approved by PADEP. This testing shall be performed during the periods of March 1 through May 31 and September 1 through November 30. The reference method testing required maybe substituted for the portable analyzer testing on a one-on-one basis (one occurrence of reference method testing may be substituted for one of every six months occurrences of the portable analyzer testing). The facility shall submit the results of all portable exhaust gas analyzer testing to PADEP no later than 30 days after the completion of the testing. The facility is required to perform EPA reference method stack testing on Source ID P104 sometime during the interval beginning on January 1, 2003 and ending on December 31, 2004 for NOX and VOC. All testing is performed while the source is operating at full load and full speed. The facility shall maintain records in accordance with the recordkeeping requirements of 25 Pa. Code section 129.95 that shall include a minimum of the following: (1) The total number of hours that Source ID P104 is operated each month, and (2) the amount of fuel used in Source ID P104 each month. These records shall be retained for a minimum of five years and be provided to PADEP upon request.

III. EPA's Evaluation of the SIP Revisions

EPA is approving these SIP submittals because the Commonwealth established and imposed requirements in accordance with the criteria set forth in SIP-approved regulations for imposing RACT or for limiting a source's potential to emit. The Commonwealth has also imposed record-keeping, monitoring, and testing requirements on these sources sufficient to determine compliance with these requirements.

IV. Final Action

EPA is approving a revision to the Commonwealth of Pennsylvania's SIP which establishes and requires RACT for Textron Inc., Lycoming County, and Dominion Trans Inc., Clinton County. EPA is publishing this rule without prior proposal because the Agency views this as a noncontroversial amendment and anticipates no adverse comment. However, in the “Proposed Rules” section of today's Federal Register, EPA is publishing a separate document that will serve as the proposal to approve the SIP revision if adverse comments are filed. This rule will be effective on July 7, 2003 without further notice unless EPA receives adverse comment by June 6, 2003. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

V. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for two named sources.

C. Petitions for Judicial Review

Under section 307(b)(1) of the Clean Air Act, petitions for judicial review of this action must be filed in the United States Court of Appeals for the appropriate circuit by July 7, 2003. Filing a petition for reconsideration by the Administrator of this final rule does not affect the finality of this rule for the purposes of judicial review nor does it extend the time within which a petition for judicial review may be filed, and shall not postpone the effectiveness of such rule or action. This action approving the Pennsylvania's source-specific RACT requirements to control VOC and NOX emissions from two individual sources may not be challenged later in proceedings to enforce its requirements. (See section 307(b)(2).)

List of Subjects in 40 CFR Part 52

Environmental protection, Air pollution control, Incorporation by reference, Nitrogen dioxide, Ozone, Reporting and recordkeeping requirements.

Dated: April 4, 2003.
Donald S. Welsh,
Regional Administrator, Region III.

40 CFR part 52 is amended as follows:

PART 52—[AMENDED]

1. The authority citation for part 52 continues to read as follows:

Authority: 42 U.S.C. 7401 et seq.

Subpart NN—Pennsylvania

2. Section 52.2020 is amended by adding paragraph (c)(202) to read as follows:

§ 52.2020 Identification of plan.

* * * * *

(c) * * *

(202) Revisions pertaining to VOC and NOX RACT determinations for major sources submitted by the Pennsylvania Department of Environmental Protection on October 30, 2002.

(i) Incorporation by reference.

(A) Letter of October 30, 2002 from the Pennsylvania Department of Environmental Protection transmitting source-specific NOX RACT determinations.

(B) Operating Permits (OP):

(1) Dominion Trans Inc., Clinton County, Title V Permit No.: 18-00005, effective February 16, 2000.

(2) Textron Lycoming, Lycoming County, Title V Permit No.: 41-00005, effective January 12, 2001.

(ii) Additional Material.

(A) A letter of February 11, 2003 from the Pennsylvania Department of Environmental Protection to EPA transmitting materials related to the RACT permits listed in paragraph (c)(202)(i) of this section.

(B) Other materials submitted by the Commonwealth of Pennsylvania in support of and pertaining to the RACT determinations for the source listed in paragraph (c)(202)(i)(B) of this section.

[FR Doc. 03-11181 Filed 5-6-03; 8:45 am]

BILLING CODE 6560-50-P